DEPARTMENT OF JUSTICE

Notice of Lodging of Consent Decree Under the Comprehensive Environmental Response, Compensation, and Liability Act (CERCLA)

Notice is hereby given that on September 28, 2007, a proposed Consent Decree (Decree) in United States v. E.I. du Pont de Nemours and Company, et al., Civil Action No. 07-CV-1304-MLB, was lodged with the United States District Court for the District of Kansas.

In this action, the United States, on behalf of the Environmental Protection Agency (EPA), seeks recovery of response costs incurred and to be incurred from E.I. du Pont de Nemours and Company, NL Industries, Inc., and Sunoco, Inc. (Settling Defendants) relating to releases of hazardous substances at the Waco Subsite of the Cherokee County Superfund Site in Cherokee County, Kansas, and at the Waco Designated Area of the Jasper County Superfund Site in Jasper County, Missouri. The Decree provides that Settling Defendants will perform the remedy selected by EPA for the areas of the Waco Subsite and Waco Designated Area owned or operated by the Settling Defendants or their predecessors. This work is estimated to cost $3.09 million. In addition, the Settling Defendants agree to pay EPA's future oversight costs, and $23,288 in past costs.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to United States v. E.I. du Pont de Nemours and Company, et al., D.J. Ref. 90-11-2-08539.

The Decree may be examined at the Office of the United States Attorney, 1200 Epic Center, 301 N. Main, Wichita, Kansas 67202. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $65.75 (.25 cents per page reproduction cost) payable to the U.S. Treasury or, if by e-mail or fax, forward a check in that amount to the Consent Decree Library at the stated address.

Robert E. Maher, Jr.,
Assistant Chief, Environmental Enforcement Section, Environment and Natural Resources Division.

[FR Doc. 07-5256 Filed 10-23-07; 8:45 am]

BILLING CODE 4410-15-M